ENVIRONMENTAL PROTECTION AGENCY

40 CFR Parts 52 and 81

[EPA-R03-OAR-2019-0262; FRL-10000-27-Region 3]

Approval and Promulgation of Air Quality Implementation Plans; Pennsylvania; Redesignation Requests and Maintenance Plans for Delaware County and Lebanon County 2012 Fine Particulate Matter Areas

AGENCY: Environmental Protection Agency (EPA).

ACTION: Final rule.

SUMMARY: The Environmental Protection Agency (EPA) is approving requests for redesignation to attainment status as well as state implementation plan (SIP) revisions submitted by the Commonwealth of Pennsylvania. On January 23, 2019 and February 11, 2019, respectively, the Pennsylvania Department of Environmental Protection (PADEP) submitted requests for EPA to redesignate the Delaware County and Lebanon County nonattainment areas (the Delaware and Lebanon Areas or the Areas) to attainment of the 2012 annual fine particulate matter (PM2.5) national ambient air quality standards (NAAQS). EPA is granting PADEP's requests and determining that the Delaware and Lebanon Areas meet the 2012 annual PM2.5 NAAQS, based on the most recent three years of certified air quality data. The effect of this action is to change the designation status of the Delaware and Lebanon Areas from nonattainment to attainment for the 2012 annual PM2.5 NAAQS, thereby removing the requirement for a nonattainment new source review (NNSR) permitting program and stopping the sanctions clock associated with a finding of failure to submit NNSR updates for the 2012 annual PM2.5 NAAQS. EPA is also approving PADEP's plans to ensure that the Delaware and Lebanon Areas continue to meet the 2012 PM2.5 NAAQS through 2030 (maintenance plans) as revisions to the Pennsylvania SIP. The maintenance plans for the Delaware and Lebanon Areas include 2014, 2022, and 2030 motor vehicle emissions budgets (MVEBs) for mobile sources of PM2.5 and nitrogen oxides (NOX). Finally, EPA is finding these 2014, 2022, and 2030 MVEBs for PM2.5 and NOX adequate and is approving these MVEBs into the Pennsylvania SIP for transportation conformity purposes. This action is being taken under the Clean Air Act (CAA).

DATES: This final rule is effective on October 30, 2019.

ADDRESSES: EPA has established a docket for this action under Docket ID Number EPA-R03-OAR-2019-0262. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Maria A. Pino, Planning & Implementation Branch (3AD30), Air & Radiation Division, U.S. Environmental Protection Agency, Region III, 1650 Arch Street, Philadelphia, Pennsylvania 19103. The telephone number is (215) 814-2181. Ms. Pino can also be reached via electronic mail at pino.maria@epa.gov.

SUPPLEMENTARY INFORMATION:

I. Background

On December 18, 2014, the EPA Administrator signed a final action promulgating initial designations for the 2012 primary PM2.5 NAAQS based on 2011-2013 air quality monitoring data for the majority of the United States. 80 FR 2206 (January 15, 2015). In that action, the Delaware Area, which consists of Delaware County, Pennsylvania, and the Lebanon Area, which consists of Lebanon County, Pennsylvania, were designated as moderate nonattainment areas for the 2012 annual PM2.5 NAAQS. See 40 CFR 81.339.

On April 6, 2018, EPA published a “finding of failure to submit” required SIP elements for the 2012 annual PM2.5 NAAQS for several nonattainment areas nationwide, including the Delaware and Lebanon Areas. See 83 FR 14759. EPA's finding of failure to submit, effective May 7, 2018, included a determination that Pennsylvania had not met its obligations for the NNSR permit program because Pennsylvania did not regulate emissions of volatile organic compounds (VOCs) and ammonia (NH3) as PM2.5 precursors. Sanctions associated with this finding for the Delaware and Lebanon Areas will take effect on November 7, 2019, unless EPA fully approves the Pennsylvania's redesignation requests by November 7, 2019. As NNSR is not required in attainment areas, upon final redesignation of the Delaware and Lebanon Areas to attainment, the NNSR updates will no longer be required for the Areas, thus nullifying the findings of failure to submit and stopping the sanctions clock.

On January 23, 2019 and February 11, 2019, respectively, PADEP submitted requests for EPA to redesignate the Delaware and Lebanon Areas to attainment of the 2012 annual PM2.5 NAAQS. Section 107(d)(3)(E) of the CAA allows redesignation of an area to attainment of the NAAQS provided that: (1) The Administrator (EPA) determines that the area has attained the applicable NAAQS; (2) the Administrator has fully approved the applicable implementation plan for the area under section 110(k) of the CAA; (3) the Administrator determines that the improvement in air quality is due to permanent and enforceable reductions in emissions resulting from implementation of the applicable SIP, applicable Federal air pollutant control regulations, and other permanent and enforceable emission reductions; (4) the Administrator has fully approved a maintenance plan for the area as meeting the requirements of section 175A of the CAA; and (5) the state containing the area has met all requirements applicable to the area for purposes of redesignation under section 110 and part D of title I of the CAA. EPA evaluated Pennsylvania's redesignation requests for the Delaware and Lebanon County Areas and determined that they met these criteria. Therefore, EPA proposed approval of Pennsylvania's redesignation requests and the associated maintenance plans for the Delaware and Lebanon County Areas in a notice of proposed pulemaking (NPRM) on July 16, 2019 (84 FR 33886).

II. Summary of SIP Revision and EPA Analysis

EPA is taking several actions related to the redesignation of the Delaware and Lebanon Areas to attainment of the 2012 annual PM2.5 NAAQS. EPA is finding that the Delaware and Lebanon moderate nonattainment areas are attaining the 2012 annual PM2.5 NAAQS. EPA is approving Pennsylvania's 2012 annual PM2.5 maintenance plans for the Delaware and Lebanon Areas as revisions to the Pennsylvania SIP that include MVEBs for PM2.5 and NOX for the years 2014, 2022, and 2030. Further, EPA is finding that Pennsylvania meets the requirements for redesignation of the Delaware and Lebanon Areas to attainment of the 2012 annual PM2.5 NAAQS under section 107(d)(3)(E) of the CAA. EPA is thus granting Pennsylvania's request to change the designation of the Delaware and Lebanon Areas from nonattainment to attainment of the 2012 annual PM2.5 NAAQS. Finally, EPA is finding the 2014, 2022, and 2030 MVEBs for PM2.5 and NOX adequate for transportation conformity purposes and is finalizing the approval of the MVEBs into the Pennsylvania SIP. The comment period for these MVEBs began upon publication of the NPRM with EPA's posting of the availability of Pennsylvania's maintenance plan submittal for the Delaware and Lebanon Areas on EPA's Adequacy website which can be found at https://www.epa.gov/state-and-local-transportation.

Other specific requirements of Pennsylvania's redesignation requests, maintenance plans, and associated MVEBs, and the rationale for EPA's proposed action are explained in the NPRM and will not be restated here.

III. Public Comments and EPA Response

During the public comment period on EPA's July 16, 2019 NPRM for this rulemaking, EPA received comments from one anonymous commenter. Those comments and EPA's responses are discussed below. All of the comments received and any submitted attachments are included in the docket for this action, available online at www.regulations.gov, Docket ID: EPA-R03-OAR-2019-0262.

Comment 1: The commenter argues that EPA's own data indicates that the annual readings from the Delaware County monitors are going up, from 11.0 micrograms per cubic meter (µg/m³) in 2016 to 9.1 µg/m³ in 2017 to 12.1 µg/m³ in 2018.

EPA Response 1: EPA disagrees with this comment. It is more relevant to look at trends in the design value (DV), which is a statistic or summary metric based on the most recent three years of monitored data that describes the air quality status of a given location relative to the level of the NAAQS, rather than trends in annual mean at a given monitoring site, for two reasons: First, design values can be directly compared to the NAAQS, since they are in the same form as the NAAQS. In appendix N to 40 CFR part 50, “Interpretation of the National Ambient Air Quality Standards for PM2.5,” the annual PM2.5 design value is defined as the “3-year average of PM2.5 annual mean mass concentrations for each eligible monitoring site.” As stated in EPA's regulations at 40 CFR 50.18, “The primary annual PM2.5 standard is met when the annual arithmetic mean concentration, as determined in accordance with appendix N of this part, is less than or equal to 12.0 µg/m³.” Pursuant to section 4.1 of appendix N of 40 CFR part 50, the primary annual PM2.5 NAAQS is met “when the annual PM2.5 NAAQS DV is less than or equal to 12.0 µg/m³ at each eligible monitoring site.” Second, because the DV is calculated as a three-year average, it better accounts for year to year variability in meteorological conditions and economic factors that may impact the emissions and/or particulate matter formation in an area, and thereby affect the annual mean at a given monitoring site. The ten-year trends in DVs at the two Delaware County monitoring sites are shown in Table 1. This data is publicly available, and can be found at EPA's Air Quality Design Values website: https://www.epa.gov/air-trends/air-quality-design-values.

Table 1—Delaware County DVs, 2007-2009 to 2016-2018
Design value(µg/m3): Site ID | Design value(µg/m3): 2007-2009 | Design value(µg/m3): 2008-2010 | Design value(µg/m3): 2009-2011 | Design value(µg/m3): 2010-2012 | Design value(µg/m3): 2011-2013 | Design value(µg/m3): 2012-2014 | Design value(µg/m3): 2013-2015 | Design value(µg/m3): 2014-2016 | Design value(µg/m3): 2015-2017 | Design value(µg/m3): 2016-2018
42-045-0002 | 13.7 | 13.3 | 12.9 | 13.1 | 12.4 | 12.3 | 11.6 | 11.5 | 10.3 | 10.7
42-045-0109 * |  |  |  |  |  |  |  |  | 9.4 | 9.4
* This site started operating on January 1, 2015. Its first valid design value was the 2015-2017 design value.

Figure 1 graphically depicts the ten-year DV trend at site 42-045-0002. EPA did not plot the trend for site 42-045-0109, as it only has two valid design values. Through a linear regression analysis, Figure 1 shows a downward trend for site 42-045-0002, with the 2015-2017 DV noticeably lower than the ten-year trend line, and the 2016-2018 DV slightly above.

EPA also examined annual mean data for the primary monitor ¹ at site 42-045-0002 for a similar timeframe. This data was obtained from EPA's Air Quality System (AQS) database, and is set out in Table 2. This data has been added to the docket for this final action, available online at https://www.regulations.gov, Docket ID: EPA-R03-OAR-2019-0262.

¹ The primary monitor at site 42-045-0002 was POC 1 for 2007-2009, and POC 3 for 2010-2018. “POC” refers to the Parameter Occurrence Code. POCs are used to distinguish between different monitors at one site that are measuring the same “parameter” (i.e. PM2.5).

Table 2—Delaware County 2007-2018 Annual Means at the Primary Monitor at Site 42-045-0002
Annual mean (µg/m³): 2007 | Annual mean (µg/m³): 2008 | Annual mean (µg/m³): 2009 | Annual mean (µg/m³): 2010 | Annual mean (µg/m³): 2011 | Annual mean (µg/m³): 2012 | Annual mean (µg/m³): 2013 | Annual mean (µg/m³): 2014 | Annual mean (µg/m³): 2015 | Annual mean (µg/m³): 2016 | Annual mean (µg/m³): 2017 | Annual mean (µg/m³): 2018
14.45 | 13.84 | 13.01 | 13.53 | 12.96 | 13.12 | 11.48 | 12.66 | 10.74 | 11.04 | 9.07 | 11.38

Figure 2 graphically depicts the annual mean trend at the primary monitor at site 42-045-0002. Figure 2 shows that the 2017 annual mean is noticeably lower than the trend line, and the 2018 annual mean is noticeably higher. Similar variability in annual means is seen throughout the 12-year period. This is expected, since annual means are more sensitive to annual changes in weather patterns and emissions than DVs. However, Figure 2 shows a downward trend for the primary monitor at site 42-045-0002, which is consistent with improved air quality.

Comment 2: The commenter states that the data in 2018 doesn't appear to be complete since there were only three complete quarters and the report indicates values with an * as values that are not complete.

EPA Response 2: EPA disagrees with this comment. The 2018 data included in the docket for the proposed rulemaking action was preliminary data, which was not yet certified by Pennsylvania. This data has since been certified and EPA has finalized the 2016-2018 DVs. The certified 2016-2018 data in AQS for Delaware and Lebanon Counties is shown in Table 3. This data has been added to the docket for this final action, available online at https://www.regulations.gov, Docket ID: EPA-R03-OAR-2019-0262.

Table 3—2016-2018 Annual Means, Complete Quarters, and DVs at Delaware County and Lebanon County Monitors
Area/county | Monitor ID | Annual means (µg/m³): 2016 | Annual means (µg/m³): 2017 | Annual means (µg/m³): 2018 | Complete quarters: 2016 | Complete quarters: 2017 | Complete quarters: 2018 | 2016-2016 design value (µg/m³)
Delaware | 42-045-0002 | 11.0 | 9.1 | ² 12.1 | 4 | 4 | 4 | 10.7
Delaware | 42-045-0109 | 9.3 | 8.3 | 10.8 | 4 | 4 | 3 | 9.4
Lebanon | 42-075-0100 | 9.7 | 9.3 | 8.8 | 4 | 4 | 4 | 9.3

The Lebanon County monitor and monitor 42-045-0002 in Delaware County both have four complete quarters of data for all three years, 2016 to 2018. Monitor 42-045-0109 has four complete quarters in 2016 and 2017, and three complete quarters in 2018. However, this monitor has a valid design value because, as provide in 40 CFR part 50, appendix N, 4.1(c)(ii), it passed the “maximum quarterly value data substitution test.” An annual PM2.5 NAAQS DV that is equal to or below the level of the NAAQS can be validated if it passes the maximum quarterly value data substitution test. This type of data substitution is permitted only if there is at least 50 percent data capture in each quarter that is deficient of 75 percent data capture in each of the three years under consideration. Data substitution will be performed in all quarter periods that have less than 75 percent data capture but at least 50 percent data capture. If any quarter has less than 50 percent data capture, then this substitution test cannot be used.

² Note that the 2018 annual mean reported in Table 3 is different than annual mean reported in Table 2. This difference is due to the fact that design values are calculated from site-level data rather than monitor-level data. For more information, see appendix N to 40 CFR part 50.

Comment 3: The commenter argues that “EPA's data for the Delaware County monitors simply show consistently borderline attainment and not verifiable emission reductions.”

EPA Response 3: EPA disagrees with this comment because as shown in EPA's response to Comment 1, the DVs at both Delaware County monitors are below the level of the NAAQS, and the DVs at monitor 42-045-0002 show a linear downward trend consistent with attainment of the 2012 PM2.5 NAAQS.

Comment 4: The commenter also claims that “[t]he Lancaster monitor only has 2 complete quarters in 2018, so why would EPA even consider this data?”

EPA Response 4: EPA assumes that the commenter is referring to the Lebanon County monitor, and not any monitor in Lancaster, which is not the subject of this rulemaking action. As explained in EPA's response to comment #2, at the time of EPA's proposed rulemaking action, the 2018 data was preliminary. EPA subsequently finalized the 2016-2018 design values. As shown in Table 3, the final, certified data for 2018 has four complete quarters, and the final 2016-2018 DV is 9.3 µg/m³, which is well below the level of the 2012 annual PM2.5 NAAQS, 12.0 µg/m³.

Comment 5: The commenter urges EPA to “[u]se the most current air quality data, not data from mid-2018 that doesn't have fully complete data!”

EPA Response 5: As stated in responses to Comments 2 and 4, complete, certified 2018 data was not available at the time of EPA's proposed rulemaking action. Since that time, Pennsylvania has certified its 2018 data and EPA has since finalized the 2016-2018 DVs. That data is reported in Table 3.

Comment 6: The commenter takes issue with the technical support documents (TSDs) for Delaware and Lancaster Counties and opines that EPA's evaluation was not a thorough evaluation that explains why Pennsylvania's emissions projections are adequate.

EPA Response 6: Pennsylvania submitted their attainment and projection year emission inventories in accordance with EPA's Emission Inventory Guidance for Implementation of Ozone and Particulate Matter National Ambient Air Quality Standards (NAAQS) and Regional Haze Regulations (May 2017) ³ and following EPA's Memorandum Procedures for Processing Requests to Redesignate Areas to Attainment (Calcagni 9/4/92 memo).⁴ For the 2014 attainment year and maintenance plan base year, Pennsylvania used EPA's National Emissions Inventory (NEI) to fulfill the requirement for submitting point, nonpoint, and nonroad emissions. Additional technical documentation on the development of the NEI can be found on EPA's NEI website for the 2014 NEI (https://www.epa.gov/air-emissions-inventories/2014-national-emissions-inventory-nei-data). Onroad emissions were developed following EPA's MOVES2014 and 2014a Technical Guidance: Using MOVES to Prepare Emissions Inventories for State Implementation Plans and Transportation Conformity.⁵ EPA reviewed the inventories following the emissions inventory guidance to insure the emissions submitted fulfilled the requirements set forth for maintenance and projected inventories.

³ This guidance document is available online on EPA's Air Emissions Inventories website, at https://www.epa.gov/air-emissions-inventories/air-emissions-inventory-guidance-implementation-ozone-and-particulate.

⁴ This guidance document is in the docket for this action, available online at https://www.regulations.gov, Docket ID: EPA-R03-OAR-2019-0262.

⁵ This guidance document is available online at https://nepis.epa.gov/Exe/ZyPDF.cgi?Dockey=P100V7EY.pdf.

Comment 7: The commenter states that EPA neglected to provide a detailed review of the Motor Vehicle Emission Simulator (MOVES) modeling files and supporting documents used in the development of the emissions inventories. Specifically, they note that the sample files include compressed natural gas (CNG) and ethanol (E85) selections. The commenter argues that the areas surrounding Delaware and Lancaster Counties do not contain E85 or CNG filling stations, making those selections in the modeling files inappropriate. Further, they contend that modeling file selections for “urban” road type should not have been made for the primarily rural areas included in the analysis.

EPA Response 7: To clarify, Pennsylvania's redesignation requests and associated maintenance plans are for Delaware and Lebanon Counties, not Lancaster County as stated by the commenter. Therefore, EPA will address the commenter's concerns as applying to Delaware and Lebanon counties, as Lancaster County is not the subject of this rulemaking action.

EPA disagrees with the commenter's characterization of whether a necessary review of modeling files supporting the redesignation request was performed. As stated in EPA's MVEB TSD ⁶ at section III, Review of the Submitted Modeling Utilizing the Motor Vehicle Emission Simulator (MOVES2014a), EPA reviewed all modeling files and methodologies provided by Pennsylvania and found them appropriate and consistent with relevant EPA guidance. Specifically, the commenter notes cases where the modeling files appear to indicate: (1) Types of fuels that are not distributed in Lebanon and Delaware counties, and (2) road types that do not exist in Lebanon and Delaware counties. However, the selections made in the “Sample Input Files.PDF” supporting documents included in Pennsylvania's submittal are entirely consistent with the EPA's “MOVES2014, MOVES2014a, and MOVES2014b Technical Guidance: Using MOVES to Prepare Emission Inventories for State Implementation Plans and Transportation Conformity” (referred to as MOVES Technical Guidance).⁷ Section 3.5 of EPA's MOVES Technical Guidance states, “For SIP and regional conformity analyses, users should select all fuel types and all vehicle types to properly estimate an emissions inventory.” Pennsylvania correctly followed the MOVES Technical Guidance and selected all vehicles and all fuel types. Section 3.6 of EPA's MOVES Technical Guidance recommends that “users should select all road types,” regardless of whether such roads exist in the county being modeled. This is to ensure that all possible activity is captured, as it is possible to “lose” vehicle miles traveled if all roads are not selected in MOVES. Pennsylvania correctly selected all road types. Additionally, for all other selections made in the modeling files provided, as well as the modeling decisions documented in Pennsylvania's submittal, EPA similarly compared those with the relevant sections of the MOVES Technical Guidance. For this redesignation request, it was determined by EPA that the appropriate modeling selections were made, and the resulting mobile source inventory was sufficient to meet the relevant CAA requirements.

⁶ EPA's MVEB TSD, “Adequacy Findings for the Motor Vehicle Emissions Budgets (MVEBs) in the 2012 Fine Particulate Matter (PM2.5) National Ambient Air Quality Standard (NAAQS) Maintenance Plan for the Lebanon County, Pennsylvania (PA) 2012 PM2.5 Nonattainment Area” is available online at https://www.regulations.gov, Docket ID: EPA-R03-OAR-2019-0262.

⁷ For more information, see “MOVES2014, MOVES2014a, and MOVES2014b Technical Guidance: Using MOVES to Prepare Emission Inventories for State Implementation Plans and Transportation Conformity”, Assessment and Standards Division, Office of Transportation and Air Quality, U.S. Environmental Protection Agency, August 2018, available online at https://nepis.epa.gov/Exe/ZyPDF.cgi?Dockey=P100V7EY.pdf.

IV. Final Action

EPA's review of the records for these redesignation requests indicates that the Delaware and Lebanon Areas meet the requirements for redesignation to attainment for the 2012 annual PM2.5 NAAQS. Therefore, EPA is granting PADEP's redesignation requests and determining that the Delaware and Lebanon Areas meet the 2012 annual PM2.5 NAAQS. The effect of this final action is to change the designation status of the Delaware and Lebanon Areas from nonattainment to attainment for the 2012 annual PM2.5 NAAQS, thereby removing the requirement for a nonattainment new source review permitting program and stopping the sanctions clock associated with a finding of failure to submit NNSR updates for the 2012 annual PM2.5 NAAQS. EPA is also approving PADEP's maintenance plans for the Delaware and Lebanon Areas as revisions to the Pennsylvania SIP. EPA is also finding the 2014, 2022, and 2030 PM2.5 and NOX MVEBs contained in the maintenance plans for the Delaware and Lebanon Areas adequate and approving these MVEBs into the Pennsylvania SIP for transportation conformity purposes.

V. Statutory and Executive Order Reviews

A. General Requirements

Under the CAA, redesignation of an area to attainment and the accompanying approval of the maintenance plan under CAA section 107(d)(3)(E) are actions that affect the status of geographical areas and do not impose any additional regulatory requirements on sources beyond those required by state law. A redesignation to attainment does not in and of itself impose any new requirements, but rather results in the application of requirements contained in the CAA for areas that have been redesignated to attainment. Moreover, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by November 29, 2019. Filing a petition for reconsideration by the Administrator of this final rule does not affect the finality of this action for the purposes of judicial review nor does it extend the time within which a petition for judicial review may be filed, and shall not postpone the effectiveness of such rule or action. This action, approving Pennsylvania's redesignation requests and maintenance plans for the 2012 PM2.5 NAAQS for the Delaware and Lebanon Areas may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 81

Environmental protection, Air pollution control, National parks, Wilderness areas.

Dated: September 13, 2019.
Diana Esher,
Acting Regional Administrator, Region III.

40 CFR parts 52 and 81 are amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (e)(1) is amended by adding entries for “Delaware County 2012 annual PM2.5 maintenance plan” and “Lebanon County 2012 annual PM2.5 maintenance plan” at the end of the table to read as follows:

§ 52.2020 Identification of plan.

* * * * *

(e) * * *

(1) * * *

Name of non-regulatory SIP revision | Applicable geographic area | State submittal date | EPA approval date | Additional explanation
* * * * * * *
Delaware County 2012 annual PM2.5 maintenance plan | Delaware County | 1/23/19 | 9/30/19 [Insert Federal Register citation]
Lebanon County 2012 annual PM2.5 maintenance plan | Lebanon County | 2/11/19 | 9/30/19 [Insert Federal Register citation]

* * * * *

3. Section 52.2059 is amended by adding paragraphs (x) and (y) to read as follows:

§ 52.2059 Control strategy: Particulate matter.

* * * * *

(x) EPA approves the maintenance plan for the Delaware County nonattainment area for the 2012 annual fine particulate matter (PM2.5) NAAQS submitted by the Commonwealth of Pennsylvania on January 23, 2019. The maintenance plan includes the 2014, 2022, and 2030 PM2.5 and nitrogen oxides (NOX) mobile vehicle emissions budgets (MVEBs) to be applied to all future transportation conformity determinations and analyses for the Delaware County area for the 2012 annual PM2.5 NAAQS.

Delaware County Area's Motor Vehicle Emission Budgets for the 2012 Annual NAAQS in Tons per Year
Type of control strategy SIP | Year | PM2.5 | NOX | Effective date of SIP approval
Maintenance Plan | 2014 | 136 | 4,652 | September 30, 2019.
| 2022 Predicted | 75 | 1,833
| Safety Margin | 4 | 183
| 2022 Budget | 79 | 2,016
| 2030 Predicted | 53 | 869
| Safety Margin | 0 | 87
| 2030 Budget | 53 | 956

(y) EPA approves the maintenance plan for the Lebanon County nonattainment area for the 2012 annual fine particulate matter (PM2.5) NAAQS submitted by the Commonwealth of Pennsylvania on February 11, 2019. The maintenance plan includes the 2014, 2022, and 2030 PM2.5 and nitrogen oxides (NOX) mobile vehicle emissions budgets (MVEBs) to be applied to all future transportation conformity determinations and analyses for the Lebanon County area for the 2012 annual PM2.5 NAAQS.

Lebanon County Area Motor Vehicle Emission Budgets for the 2012 Annual NAAQS in Tons per Year
Type of control strategy SIP | Year | PM2.5 | NOX | Effective date of SIP approval
Maintenance Plan | 2014 | 87 | 3,131 | September 30, 2019.
| 2022 Predicted | 45 | 1,697
| Safety Margin | 5 | 170
| 2022 Budget | 50 | 1,867
| 2030 Predicted | 28 | 1,249
| Safety Margin | 3 | 125
| 2030 Budget | 31 | 1,374

* * * * *

PART 81—DESIGNATION OF AREAS FOR AIR QUALITY PLANNING PURPOSES

4. The authority citation for part 81 continues to read as follows:

Authority: 42 U.S.C. 7401, et seq.

Subpart C—Section 107 Attainment Status Designations

5. In § 81.339, the table “Pennsylvania—2012 Annual PM2.5 NAAQS (Primary)” is amended by revising the entries for “Delaware County, PA” and “Lebanon County, PA” to read as follows:

§ 81.339 Pennsylvania.

* * * * *

Pennsylvania—2012 Annual PM2.5 NAAQS (Primary)
Designated area ¹ | Designation: Date ² | Designation: Type | Classification: Date ² | Classification: Type
* * * * * * *
Delaware County, PA:
Delaware County | October 30, 2019 | Attainment
Lebanon County, PA:
Lebanon County | October 30, 2019 | Attainment
* * * * * * *
¹ Includes areas of Indian country located in each county or area, except as otherwise specified.
² This date is April 15, 2015, unless otherwise noted.

* * * * *

[FR Doc. 2019-20675 Filed 9-27-19; 8:45 am]

BILLING CODE 6560-50-P